AGENCY FOR INTERNATIONAL DEVELOPMENT

22 CFR Part 200

Employee Responsibilities and Conduct

AGENCY: Agency for International Development (USAID).

ACTION: Final rule.

SUMMARY: USAID is amending its regulations governing the responsibilities and conduct of USAID employees.

DATES: This rule becomes effective December 26, 2002.

FOR FURTHER INFORMATION CONTACT: Dennis Diamond, Attorney, Office of General Counsel, Ethics and Administration, USAID, telephone 202-712-4456; telefax (202) 216-3055; email ddiamond@usaid.gov.

SUPPLEMENTARY INFORMATION:

A. Explanation of Changes

The regulations governing the responsibilities and conduct of employees previously codified as part 10 of this title prescribed jointly by the Department of State, the Agency for International Development, and the U.S. Information Agency have been repealed.

The Agency for International Development is amending Part 200 to delete the reference to part 10 of this title and to reference the Office of Government Ethics' government-wide Standards of Ethical Conduct of the Executive Branch, 5 CFR part 2635.

B. Regulatory Analysis

1. Executive Order 12866. USAID has determined that this regulation is not a significant regulatory action as defined in Executive Order 12866 and, accordingly, this regulation has not been reviewed by the Office of Management and Budget.

2. Regulatory Flexibility Act. It is hereby certified that this regulation will not have a significant economic impact on a substantial number of small entities. Accordingly, a Regulatory Flexibility Analysis is not required.

3. Executive Order 13132. This regulation will not have a substantial direct effect on the states, on the relationship between the national government and the states, or on distribution of power and responsibilities among the various levels of government. Therefore, in accordance with Executive Order 13132, it is determined that this regulation does not have sufficient federalism implications to warrant the preparation of a Federalism Assessment.

4. Unfunded Mandates Reform Act of 1995. This regulation will not result in the expenditure by state, local and tribal governments, in the aggregate, or by the private sector, of $100 million or more in any one year, and it will not significantly or uniquely affect small governments. Therefore, no actions were deemed necessary under the provisions of the Unfunded Mandates Reform Act of 1995.

5. Small Business Regulatory Enforcement Fairness Act of 1996. This rule is not a major rule as defined by section 251 of the Small Business Regulatory Enforcement Act. 5 U.S.C. 804. This rule will not result in an annual effect on the economy of $100 million or more; a major increase in costs or prices; or significant adverse effects on competition, employment, investment, productivity, innovation, or on the ability of United States-based companies to compete with foreign-based companies in domestic or export markets.

7. Executive Order 12988—Civil Justice Reform. USAID has conducted the reviews required by section 3 of Executive Order 12988 and has determined that, this rule meets the applicable standards in section 3 to mitigate litigation, eliminate ambiguity and reduce burden.

8. Paperwork Reduction Act. This rule does not contain information collection requirements that require approval by the Office of Management and Budget under the Paperwork Reduction Act (44 U.S.C. 3507 et seq.).

Accordingly, 22 CFR part 200 is revised to read as follows:

PART 200—EMPLOYEE RESPONSIBILITIES AND CONDUCT

Cross-References: The regulations governing the responsibilities and conduct of employees of the Agency for International Development are codified as part 2635 of title 5, prescribed by the Office of Government Ethics.

Dated: December 18, 2002.
Arnold Haiman,
Designated Agency Ethics Official, Office of General Counsel.

[FR Doc. 02-32423 Filed 12-24-02; 8:45 am]

BILLING CODE 6116-01-P